DEPARTMENT OF TRANSPORTATION

Federal Aviation Administration

14 CFR Part 39

[Docket No. FAA-2016-0465; Directorate Identifier 2015-NM-096-AD; Amendment 39-18679; AD 2016-20-13]

RIN 2120-AA64

Airworthiness Directives; Airbus Airplanes

AGENCY: Federal Aviation Administration (FAA), Department of Transportation (DOT).

ACTION: Final rule.

SUMMARY: We are adopting a new airworthiness directive (AD) for certain Airbus Model A330-200 and -300 series airplanes; and Model A340-200 and -300 series airplanes. This AD was prompted by a determination that the compliance times for certain post-repair inspections and certain allowable damage limits (ADLs) must be reduced in order to address fatigue. This AD requires identifying any repairs and ADLs used to assess or control any structural damage on certain structural areas, and corrective action if necessary. We are issuing this AD to prevent fatigue damage on primary structure and structural repairs, which could result in reduced structural integrity of the airplane.

DATES: This AD is effective November 25, 2016.

The Director of the Federal Register approved the incorporation by reference of certain publications listed in this AD as of November 25, 2016.

ADDRESSES: For service information identified in this final rule, contact Airbus, Airworthiness Office—EIAS, 1 Rond Point Maurice Bellonte, 31707 Blagnac Cedex, France; telephone: +33 5 61 93 36 96; fax: +33 5 61 93 44 51; email: account.airworth-eas@airbus.com; Internet: http://www.airbus.com. You may view this referenced service information at the FAA, Transport Airplane Directorate, 1601 Lind Avenue SW., Renton, WA. For information on the availability of this material at the FAA, call 425-227-1221. It is also available on the Internet at http://www.regulations.gov by searching for and locating Docket No. FAA-2016-0465.

Examining the AD Docket

You may examine the AD docket on the Internet at http://www.regulations.gov by searching for and locating Docket No. FAA-2016-0465; or in person at the Docket Management Facility between 9 a.m. and 5 p.m., Monday through Friday, except Federal holidays. The AD docket contains this AD, the regulatory evaluation, any comments received, and other information. The street address for the Docket Office (telephone: 800-647-5527) is Docket Management Facility, U.S. Department of Transportation, Docket Operations, M-30, West Building Ground Floor, Room W12-140, 1200 New Jersey Avenue SE., Washington, DC 20590.

FOR FURTHER INFORMATION CONTACT: Vladimir Ulyanov, Aerospace Engineer, International Branch, ANM-116, Transport Airplane Directorate, FAA, 1601 Lind Avenue SW., Renton, WA 98057-3356; telephone: 425-227-1138; fax: 425-227-1149.

SUPPLEMENTARY INFORMATION:

Discussion

We issued a notice of proposed rulemaking (NPRM) to amend 14 CFR part 39 by adding an AD that would apply to certain Airbus Model A330-200 and -300 series airplanes; and Model A340-200 and -300 series airplanes. The NPRM published in the Federal Register on February 18, 2016 (81 FR 8160) (“the NPRM”). The NPRM was prompted by a determination that the compliance times for certain post-repair inspections and certain ADLs must be reduced in order to address fatigue. The NPRM proposed to require identifying any repairs and ADLs used to assess or control any structural damage on certain structural areas, and corrective action if necessary. We are issuing this AD to prevent fatigue damage on primary structure and structural repairs, which could result in reduced structural integrity of the airplane.

The European Aviation Safety Agency (EASA), which is the Technical Agent for the Member States of the European Union, has issued EASA AD 2015-0101R1, dated June 12, 2015 (referred to after this as the Mandatory Continuing Airworthiness Information, or “the MCAI”), to correct an unsafe condition for certain Airbus Model A330-200 and -300 series airplanes; and Model A340-200 and -300 series airplanes. The MCAI states:

Result of a fleet survey accomplished in 2008 identified that the nature of flight missions of A330 and A340-200/300 fleets had significantly changed in comparison with assumed usage during the type certification. Consequently, it was decided to recalculate the Structural Repair Manual (SRM) fatigue values to ensure that the given threshold and intervals remain valid.

The results of this recalculation identified reduced thresholds and intervals applicable for repairs and Allowable Damage Limits (ADL) affecting the following areas:

—Door cut-out corners of door surrounding panels (forward cargo door, forward passenger (PAX) door, mid PAX door, emergency exit door/PAX door 3, aft cargo door, bulk cargo door, aft PAX door), on both Left Hand (LH) and Right Hand (RH) sides,

—Stringer (STGR) 9 junction between Frame (FR) 10 and FR13 on both LH and RH sides, and

—Fuselage skin doubler repairs on both LH and RH sides.

Failing to apply the reduced thresholds and intervals, could adversely affect the structural integrity of the aeroplane.

To address this unsafe condition, Airbus issued SRM revision dated April 2013 and temporary revision (TR) 53-001 for the STGR9 junction between FR10 and FR13 area (and subsequent revisions) to introduce reduced thresholds and intervals for the affected ADLs and repairs and issued a set of Service Bulletins (SB) to identify the ADLs used and repairs made, as well as to enable operators to update aeroplane repair records.

Consequently EASA issued AD * * *, to require identification of any repairs and/or ADL used to assess or control any structural damage on certain structural areas and, depending on findings, accomplishment of corrective action(s) [including revising the maintenance or inspection program as applicable to incorporate revised thresholds and intervals and repair].

Since that [EASA] AD was issued, data review confirmed that A330 freighter versions are not affected by the unsafe condition.

This [EASA] AD is revised to remove A330-223F and A330-243F from the Applicability.

You may examine the MCAI in the AD docket on the Internet at http://www.regulations.gov by searching for and locating Docket No. FAA-2016-0465.

Comments

We gave the public the opportunity to participate in developing this AD. The following presents the comments received on the NPRM and the FAA's response.

Requests To Revise Paragraph (g) of the Proposed AD To Include Physical Inspection as Alternative to Records Check

Delta Air Lines (DAL) and American Airlines requested that we revise the proposed AD to include a physical inspection of affected areas of the airplane in case the maintenance records are unavailable or inconclusive as an alternative to the records check specified in paragraph (g) of the proposed AD. DAL pointed out that their maintenance record search for applied SRM ADLs had inconclusive results. DAL also pointed out that other U.S. operators may not be able to comply with the proposed AD by performing a maintenance records check. American Airlines provided no further justification.

We agree that an alternative inspection method in lieu of a maintenance records check could be appropriate. When the repair records and/or applied SRM ADL are unavailable or inconclusive, then an alternative method of inspection can be done using a method approved by the Manager, International Branch, ANM-116, Transport Airplane Directorate, FAA; or the European Aviation Safety Agency (EASA); or Airbus's EASA Design Organization Approval (DOA). We have revised paragraph (g) of this AD to include an alternative method of inspection in the case of inconclusive or unavailable records.

We have also revised paragraph (h)(2) of this AD to clarify the affected repairs for that paragraph.

Additional Change Made in This AD

We have converted Tables 1 and 2 of the proposed AD into text. These changes are for formatting purposes only and do not change the intent of those requirements.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

Related Service Information Under 1 CFR Part 51

We reviewed the following Airbus service information. The service information describes procedures for updating the airplane repair records with revised thresholds and intervals. These documents are distinct since they apply to different airplane models in different configurations.

• Airbus Service Bulletin A330-53-3232, dated November 4, 2014.

• Airbus Service Bulletin A330-53-3233, dated September 26, 2014.

• Airbus Service Bulletin A330-53-3234, dated December 8, 2014.

• Airbus Service Bulletin A330-53-3235, Revision 01, dated January 14, 2015.

• Airbus Service Bulletin A340-53-4222, dated November 25, 2014.

• Airbus Service Bulletin A340-53-4223, dated September 26, 2014.

• Airbus Service Bulletin A340-53-4224, dated December 15, 2014.

• Airbus Service Bulletin A340-53-4225, Revision 01, dated January 14, 2015.

This service information is reasonably available because the interested parties have access to it through their normal course of business or by the means identified in the ADDRESSES section.

Costs of Compliance

We estimate that this AD affects 95 airplanes of U.S. registry.

We estimate the following costs to comply with this AD:

Estimated Costs
Action | Labor cost | Parts cost | Cost per product | Cost on U.S. operators
Records review | 2 work-hours × $85 per hour = $170 | $0 | $170 | $16,150

We have received no definitive data that would enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-20-13 Airbus: Amendment 39-18679. Docket No. FAA-2016-0465; Directorate Identifier 2015-NM-096-AD.

(a) Effective Date

This AD is effective November 25, 2016.

(b) Affected ADs

None.

(c) Applicability

This AD applies to the airplanes identified in paragraphs (c)(1) and (c)(2) of this AD, certificated in any category, manufacturer serial numbers (MSNs) 1 through 1,600 inclusive.

(1) Airbus Model A330-201, -202, -203, -223, -243, -301, -302, -303, -321, -322, -323, -341, -342, and -343 airplanes.

(2) Airbus Model A340-211, -212, -213, -311, -312, and -313 airplanes.

(d) Subject

Air Transport Association (ATA) of America Code 53, Fuselage.

(e) Reason

This AD was prompted by a determination that the compliance times for certain post-repair inspections and certain allowable damage limits (ADLs) must be reduced in order to address fatigue. We are issuing this AD to prevent fatigue damage on primary structure and structural repairs, which could result in reduced structural integrity of the airplane.

(f) Compliance

Comply with this AD within the compliance times specified, unless already done.

(g) Records Review

(1) At the applicable times in paragraphs (g)(1)(i) through (g)(1)(x) of this AD, review the airplane maintenance records to identify any structural repair manual (SRM) ADLs used to assess or control any structural damage or any structural repair accomplished as specified in an SRM, as applicable, that have been applied on the applicable areas as specified in paragraphs (g)(2)(i) through (g)(2)(iv) of this AD. If the review of the airplane maintenance records is inconclusive or the records are unavailable, inspect the airplane to identify any SRM ADL used to assess or control any structural damage or any structural repair accomplished in accordance with a SRM, as applicable, using a method approved by Manager, International Branch, ANM-116, Transport Airplane Directorate, FAA; or the European Aviation Safety Agency (EASA); or Airbus's EASA Design Organization Approval (DOA).

(i) For Model A330-200 pre-mod 49144 airplanes, with left-hand (LH) and right-hand (RH) mid passenger (PAX) door surround panels, as specified in Airbus Service Bulletin A330-53-3232, dated November 4, 2014: Within 12 months after the effective date of this AD.

(ii) For Model A330-200 pre-mod 49144 airplanes, with forward cargo door, emergency exit door/PAX door 3, aft cargo door, bulk cargo door, and aft PAX door surround panels; as specified in Airbus Service Bulletin A330-53-3232, dated November 4, 2014: Within 24 months after the effective date of this AD.

(iii) For Model A330-300 pre-mod 49144 airplanes and Model A340-200 and -300 pre-mod 49144 airplanes, with mid PAX door surround panels, forward cargo door, emergency exit door/PAX door 3, aft cargo door, bulk cargo door, and aft PAX door surround panels; as specified in Airbus Service Bulletin A330-53-3232, dated November 4, 2014; or Airbus Service Bulletin A340-53-4222, dated November 25, 2014; as applicable: Within 24 months after the effective date of this AD.

(iv) For Model A330-201, -202, -203, -223, -243, -301, -302, -303, -321, -322, -323, -341, -342, and -343 and Model A340-211, -212, -213, -311, -312, and -313, all post-mod 40347 airplanes, with forward PAX door surround panels with an ADL with a temporary life limit; as specified in Airbus Service Bulletin A330-53-3233, dated September 26, 2014; or Airbus Service Bulletin A340-53-4223, dated September 26, 2014; as applicable: Within 12 months after the effective date of this AD.

(v) For Model A330-201, -202, -203, -223, -243, -301, -302, -303, -321, -322, -323, -341, -342, and -343 and Model A340-211, -212, -213, -311, -312, and -313, all post-mod 40347 airplanes, with forward PAX door surround panels with an ADL with a Permanent Acceptance; as specified in Airbus Service Bulletin A330-53-3233, dated September 26, 2014; or Airbus Service Bulletin A340-53-4223, dated September 26, 2014; as applicable: Within 24 months after the effective date of this AD.

(vi) For Model A330-201, -202, -203, -223, -243, -301, -302, -303, -321, -322, -323, -341, -342, and -343 airplanes and Model A340-211, -212, -213, -311, -312, and -313 airplanes; stringer 9 junction between frame (FR) 10 and FR13; as specified in Airbus Service Bulletin A330-53-3235, Revision 01, dated January 14, 2015; or Airbus Service Bulletin A340-53-4225, Revision 01, dated January 14, 2015; as applicable: Within 12 months after the effective date of this AD.

(vii) For Model A340-200 and -300 Weight Variant (WV)00s airplanes; forward and rear fuselage; as specified in Airbus Service Bulletin A340-53-4224, dated December 15, 2014: Within 12 months after the effective date of this AD.

(viii) For Model A340-200 and -300 WV00s airplanes; nose forward and center fuselage; as specified in Airbus Service Bulletin A340-53-4224, dated December 15, 2014: Within 24 months after the effective date of this AD.

(ix) For Model A330-200 and -300 pre-mod 49144 airplanes, and Model A340-200 and -300 WV20s airplanes; forward and rear fuselage, nose forward and center fuselage; as specified in Airbus Service Bulletin A330-53-3234, dated December 8, 2014; or Airbus Service Bulletin A340-53-4224, dated December 15, 2014; as applicable: Within 24 months after the effective date of this AD.

(x) For Model A330-200 and -300 post-mod 49144 airplanes and Model A340-200 and -300 post-mod 49144 airplanes; nose forward and center fuselage; as specified in Airbus Service Bulletin A330-53-3234, dated December 8, 2014; or Airbus Service Bulletin A340-53-4224, dated December 15, 2014; as applicable: Within 24 months after the effective date of this AD.

(2) Applicable areas (on both LH and RH sides) are identified in paragraphs (g)(2)(i) through (g)(2)(iv) of this AD.

(i) Door cut-out corners of door surrounding panels (forward cargo door, mid PAX door, emergency exit door/PAX door 3, aft cargo door, bulk cargo door, aft PAX door), as specified in Airbus Service Bulletin A330-53-3232, dated November 4, 2014; or Airbus Service Bulletin A340-53-4222, dated November 25, 2014; as applicable.

(ii) Forward PAX door surround panels, as specified in Airbus Service Bulletin A330-53-3233, dated September 26, 2014; or Airbus Service Bulletin A340-53-4223, dated September 26, 2014; as applicable.

(iii) Fuselage skin doubler repairs, as specified in Airbus Service Bulletin A330-53-3234, dated December 8, 2014; or Airbus Service Bulletin A340-53-4224, dated December 15, 2014; as applicable.

(iv) Stringer 9 junction between FR10 and FR13, as specified in Airbus Service Bulletin A330-53-3235, Revision 01, dated January 14, 2015; or Airbus Service Bulletin A340-53-4225, Revision 01, dated January 14, 2015; as applicable.

(h) Corrective Actions

If, during any review or inspection required by paragraph (g)(1) of this AD, it is determined that an SRM ADL was used on an area specified in paragraphs (g)(2)(i) through (g)(2)(iv) of this AD to assess or control any structural damage, or any structural repair of an area specified in paragraphs (g)(2)(i) through (g)(2)(iv) of this AD was accomplished as specified in the instructions of the applicable SRM revision dated before April 2013 or SRM temporary revision (TR) dated before November 28, 2014: Within the applicable compliance time specified in paragraphs (g)(1)(i) through (g)(1)(x) of this AD, do the actions specified in paragraphs (h)(1) or (h)(2) of this AD, as applicable.

(1) Revise the maintenance or inspection program, as applicable, with the applicable revised thresholds and intervals for the identified structural repairs embodied on the airplane, and accomplish all updated inspections, in accordance with the Accomplishment Instructions of the applicable service information identified in paragraphs (g)(2)(i) through (g)(2)(iv) of this AD, except as required by paragraphs (h)(1)(i) and (h)(1)(ii) of this AD.

(i) Where the applicable service information identified in paragraphs (g)(2)(i) through (g)(2)(iv) of this AD specifies to contact Airbus for specific assessment, revise the maintenance or inspection program and accomplish all updated inspections, as applicable, using a method approved by the Manager, International Branch, ANM-116, Transport Airplane Directorate, FAA; or EASA; or Airbus's EASA DOA.

(ii) Where the applicable service information identified in paragraphs (g)(2)(i) through (g)(2)(iv) of this AD specifies “current SRM,” no SRM revision dated before April 2013 or SRM TR dated before November 28, 2014, is considered a “current SRM.”

(2) For any repair that was previously allowed in any revision of the Airbus A330 or A340 SRM, as applicable, dated before April 2013; or in any SRM TR dated before November 28, 2014, to the applicable SRM, and is no longer allowed by the applicable SRM revision dated on or after April 2013: Make an assessment using a method approved by the Manager, International Branch, ANM-116, Transport Airplane Directorate, FAA; or the EASA; or Airbus's EASA DOA; and perform necessary corrective actions at the applicable times identified therein.

(i) Limitation on Repair/Replacement

As of the effective date of this AD, for any structural damage in the areas identified in paragraphs (g)(2)(i) through (g)(2)(iv) of this AD that has exceeded the ADL, no repair or replacement may be done using an Airbus A330 or A340 SRM dated before April 2013, or any Airbus A330 or A340 SRM TR dated before November 28, 2014.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone: 425-227-1138; fax: 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or EASA; or Airbus's EASA DOA. If approved by the DOA, the approval must include the DOA-authorized signature.

(3) Required for Compliance (RC): Except as required by paragraphs (h)(1)(i), (h)(1)(ii), and (h)(2) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

Refer to Mandatory Continuing Airworthiness Information (MCAI) EASA AD 2015-0101R1, dated June 12, 2015, for related information. This MCAI may be found in the AD docket on the Internet at http://www.regulations.gov by searching for and locating Docket No. FAA-2016-0465.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A330-53-3232, dated November 4, 2014.

(ii) Airbus Service Bulletin A330-53-3233, dated September 26, 2014.

(iii) Airbus Service Bulletin A330-53-3234, dated December 8, 2014.

(iv) Airbus Service Bulletin A330-53-3235, Revision 01, dated January 14, 2015.

(v) Airbus Service Bulletin A340-53-4222, dated November 25, 2014.

(vi) Airbus Service Bulletin A340-53-4223, dated September 26, 2014.

(vii) Airbus Service Bulletin A340-53-4224, dated December 15, 2014.

(viii) Airbus Service Bulletin A340-53-4225, Revision 01, dated January 14, 2015.

(3) For service information identified in this AD, contact Airbus, Airworthiness Office—EIAS, 1 Rond Point Maurice Bellonte, 31707 Blagnac Cedex, France; telephone: +33 5 61 93 36 96; fax: +33 5 61 93 44 51; email: account.airworth-eas@airbus.com; Internet: http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on September 28, 2016.
Dionne Palermo,
Acting Manager, Transport Airplane Directorate, Aircraft Certification Service.

[FR Doc. 2016-24191 Filed 10-19-16; 8:45 am]

BILLING CODE 4910-13-P